SECURITIES AND EXCHANGE COMMISSION

17 CFR Part 200

[RELEASE NO. 34-55540A; INTERNATIONAL SERIES RELEASE NO. 1301A; FILE NO. S7-12-05]

RIN 3235-AJ38

Termination of Foreign Private Issuer's Registration of a Class of Securities Under Section 12(G) and Duty to File Reports Under Section 13(A) or 15(D) of the Securities Exchange Act of 1934

AGENCY: Securities and Exchange Commission.

ACTION: Correction to final rule.

SUMMARY: The Commission adopted amendments to the language of the third-party and issuer tender offer best-price rules on November 1, 2006. This document contains a correction to the final rule that was published on April 5, 2007 [72 FR 16934].

DATES: Effective Date: June 4, 2007.

FOR FURTHER INFORMATION CONTACT: Linda Cullen, Program Information Specialist, Office of the Secretary, at (202) 551-5402.

SUPPLEMENTARY INFORMATION: The Commission adopted amendments to the language of the third-party and issuer tender offer best-price rules on November 1, 2006. In this release, the instruction for the authority citation in FR Doc. E7-5947 in the April 5, 2007 issue of the Federal Register is being corrected.

PART 200—[CORRECTED]

1. On page 16955, in the first column, the amendatory language for amendment 1 is corrected to read as follows:

“1. The authority citation for part 200, subpart A, continues to read, in part, as follows:

Authority: 15 U.S.C. 77o, 77s, 77sss, 78d, 78d-1, 78d-2, 78w, 78ll(d), 78mm, 80a-37, 80b-11, and 7202, unless otherwise noted.”

* * * * *

Dated: June 15, 2007.
Nancy M. Morris,
Secretary.

[FR Doc. E7-11911 Filed 6-19-07; 8:45 am]

BILLING CODE 8010-01-P